ENVIRONMENTAL PROTECTION AGENCY

[ER-FRL-6673-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050501, ERP No. D-NRS-G39045-AR, Walnut Bayou Irrigation Project, Natural Resource Plan for the Little Red River Watershed, Little River County, AR.

Summary: EPA expressed environmental concern about potential impacts to wetlands, and requested additional information to address wetland impacts and required mitigation.

Rating EC2.

EIS No. 20050518, ERP No. D-BLM-J02049-WY, Atlantic Rim Natural Gas Field Development Project, Proposed Natural Gas Development to 2000 Wells, 1800 to Coal Beds and 200 to Other Formations, Carbon County, WY.

Summary: EPA expressed environmental concerns about air and water/wetland impacts, and requested additional information on these issues and mitigation.

Rating EC2.

EIS No. 20050520, ERP No. D-BIA-L61230-OR, Coyote Business Park, Confederated Tribes of the Umatilla Indian Reservation, Proposes to Develop, Build and Manage a Light Industrial Commercial Business Park, Umatilla County, OR.

Summary: EPA expressed environmental concerns about surface and ground water quality impact, and suggests that the use of low input development strategies could help reduce those impacts.

Rating EC1.

EIS No. 20050535, ERP No. D-BIA-L03012-AK, Cordova Oil Spill Response Facility, Construct an Oil Spill Response Facility at Shepard Point, NPDES Permit and U.S. Army COE Section 10 and 404 Permits, Cordova, AK.

Summary: EPA expressed environmental concerns about impacts to rocky shoreline habitat and special aquatic resources (eelgrass beds).

Rating EC2.

EIS No. 20050543, ERP No. D-NPS-D61058-VA, Manassas National Battlefield Park General Management Plan, Implementation, Fairfax and Prince William Counties, VA.

Summary: EPA expressed environmental concerns about wetland, vegetation wildlife, transportation, and the local community impacts, and requested additional forest and wetland mitigation and additional information on the impacts of closing U.S. Route 29 and VA Route 234 within Manassas National Battlefield Park.

Rating EC2.

EIS No. 20050551, ERP No. D-NAS-A12044-00, Programmatic—Development of Advanced Radioisotope Power Systems, Two New Advanced RPS's: Multi-Mission Radioisotope Thermoelectric Generator (MMRTG) and Stirling Radioisotope Generator (SRG).

Summary: EPA does not object to the proposed action. Rating LO.

EIS No. 20050552, ERP No. D-FRC-E03014-FL, Cypress Pipeline Project and Phase VII Expansion Project, Construction and Operation, U.S. Army COE Section 10 and 404 Permits, Northern and Central Florida.

Summary: EPA's expressed environmental concerns about impacts to forested wetlands, including approximately 180 acres along the centerline which would be permanently converted to herbaceous wetlands. Rating EC2.

EIS No. 20060016, ERP No. DC-NOA-E86002-00, Amendment 26 to the Gulf of Mexico Reef Fish Fishery Management Plan, Proposed Individual Fishing Quota (IFQ) Program to Reduce Overcapacity in the Commercial Red Snapper Fishery.

Summary: While EPA has no objections to the proposed action, it did request clarification of some EJ issues. Rating LO.

Final EISs

EIS No. 20060017, ERP No. F-AFS-E65071-FL, Ocala National Forest Access Designation Process, Roads and Trails Systems Development, Implementation, Lake, Marion and Putnam Counties, FL.

Summary: While EPA does not object to the proposed action, it did suggest recommendations to improve the monitoring plan.

EIS No. 20060035, ERP No. F-AFS-F65056-OH, Wayne National Forest, Proposed Revised Land and Resource Management Plan, Implementation, Several Counties, OH.

Summary: EPA does not object to the proposed action.

EIS No. 20060037, ERP No. F-AFS-F65047-IN, German Ridge Restoration Project, to Restore Native Hardwood Communities, Implementation, Hoosier National Forest, Tell City Ranger District, Perry County, IN.

Summary: While EPA's previous concerns were resolved, it requested that the USFS to include a chronology of management actions by season as a planning feature to help minimize potential impacts to sensitive animals during migration and breeding.

EIS No. 20060054, ERP No. FS-NOA-E55555-00, Reef Fish (Amendment 25) and Coastal Migratory Pelagics (Amendment 17) for Extending the Charter Vessel/Headboat Permit Moratorium, Gulf of Mexico and South Atlantic.

Summary: EPA does not object to the proposed action.

Dated: March 7, 2006.
Robert W. Hargrove,
Director, NEPA Compliance Division, Office of Federal Activities.

[FR Doc. E6-3443 Filed 3-9-06; 8:45 am]

BILLING CODE 6560-50-P